DEPARTMENT OF HEALTH AND HUMAN SERVICES

Centers for Medicare & Medicaid Services

42 CFR Parts 405, 410, 414, 424, 425, 427, 428, 495, and 512

[CMS-1832-CN]

RIN 0938-AV50

Medicare and Medicaid Programs; CY 2026 Payment Policies Under the Physician Fee Schedule and Other Changes to Part B Payment and Coverage Policies; Medicare Shared Savings Program Requirements; and Medicare Prescription Drug Inflation Rebate Program; Correction

AGENCY: Centers for Medicare & Medicaid Services (CMS), Department of Health and Human Services (HHS).

ACTION: Proposed rule; correction.

SUMMARY: This document corrects typographical and technical errors in the proposed rule that appeared in the July 16, 2025 Federal Register (90 FR 32352) titled “Medicare and Medicaid Programs; CY 2026 Payment Policies Under the Physician Fee Schedule and Other Changes to Part B Payment and Coverage Policies; Medicare Shared Savings Program Requirements; and Medicare Prescription Drug Inflation Rebate Program” (hereinafter referred to as the CY 2026 PFS proposed rule), specifying proposed changes to the Medicare physician fee schedule (PFS) that is applicable for calendar year (CY) 2026, and other changes to Medicare Part B payment policies, as well as proposals regarding other Medicare payment policies.

DATES: To be assured consideration, comments must be received at one of the addresses provided below, no later than 5 p.m. on September 12, 2025.

ADDRESSES: In commenting, please refer to file code CMS-1832-P.

Comments, including mass comment submissions, must be submitted in one of the following three ways (please choose only one of the ways listed):

1. Electronically. You may submit electronic comments on this regulation to http://www.regulations.gov. Follow the “Submit a comment” instructions.

2. By regular mail. You may mail written comments to the following address ONLY: Centers for Medicare & Medicaid Services, Department of Health and Human Services, Attention: CMS-1832-P, P.O. Box 8016, Baltimore, MD 21244-8016.

Please allow sufficient time for mailed comments to be received before the close of the comment period.

3. By express or overnight mail. You may send written comments to the following address ONLY: Centers for Medicare & Medicaid Services, Department of Health and Human Services, Attention: CMS-1832-P, Mail Stop C4-26-05, 7500 Security Boulevard, Baltimore, MD 21244-1850.

FOR FURTHER INFORMATION CONTACT:

MedicarePhysicianFeeSchedule@cms.hhs.gov, for any issues not identified below. Please indicate the specific issue in the subject line of the email. For all questions related to reporting a service on a claim, please contact your Medicare Administrative Contractor.

Michael Soracoe, Morgan Kitzmiller, or MedicarePhysicianFeeSchedule@cms.hhs.gov, for issues related to practice expense, work RVUs, conversion factor, and PFS specialty-specific impacts.

Hannah Ahn, or MedicarePhysicianFeeSchedule@cms.hhs.gov, for issues related to potentially misvalued services under the PFS.

Pamela West, or MedicarePhysicianFeeSchedule@cms.hhs.gov, for issues related to outpatient therapy services and KX modifier thresholds.

Janae James, (410) 786-0801, or SharedSavingsProgram@cms.hhs.gov, for issues related to the Medicare Shared Savings Program.

Amy Gruber, (410) 786-1542, for issues related to Ambulance Extender provisions.

Kati Moore, (410) 786-5471, for inquiries related to the Merit-based Incentive Payment System (MIPS) track of the Quality Payment Program (QPP).

Trevey Davis, (667) 290-8527, for inquiries related to the Advanced Alternative Payment Models (APMs) track of QPP.

Laura Kennedy, (410) 786-3377, Rebecca Ray, (667) 414-0879, and Jae Ryu, (667) 414-0765 for issues related to Drugs and Biological Products Paid Under Medicare Part B.

SUPPLEMENTARY INFORMATION:

I. Background

In FR Doc. 2025-13271 of July 16, 2025, the CY 2026 PFS proposed rule (90 FR 32352), there were typographical and technical errors that are identified and corrected in this correcting document.

II. Summary of Errors

A. Summary of Errors in the Preamble

On page 32352, we inadvertently made a typographical error.

On page 32353, we inadvertently included an incorrect Summary of the Key Provisions.

On page 32386, we inadvertently omitted a potentially misvalued code nomination.

On page 32503, we inadvertently omitted the section titled Outpatient Therapy Services and KX Modifier Thresholds from the proposed rule.

On page 32637, we inadvertently included language related to the transfer of labeler codes.

On page 32671, we inadvertently included an incorrect reference in footnote 323.

On page 32717, we inadvertently made a technical error in the number of proposed substantive changes.

On page 32770, we inadvertently included an incomplete sentence.

On page 32771, we inadvertently included a typographical error.

On page 32776, we inadvertently made a technical error in a table reference.

On page 32777, we inadvertently included language that reflected the standard non-rule PRA process.

On page 32778, we made an inadvertent typographical error in a section reference.

On page 32779, we inadvertently made a typographical error.

On page 32781, we inadvertently omitted text preceding table `Table 82: TABLE 82: Annual Responses Beginning with the CY 2027 Performance Period/2029 MIPS Payment Year Under OMB Control Number 0938-1222 (CMS-10450).

On page 32793, we inadvertently referenced a regulatory citation and made technical errors in Table 87: Proposed Annual Requirements and Burden Estimates.

On page 32799, we inadvertently made two typographical errors.

On page 32801, in Tables 89, 90, and 91, the CY 2026 RVU Budget Neutrality Adjustment we inadvertently made typographical errors in the conversion factors.

On page 32818, we made an inadvertent typographical error in a section reference.

On page 32834, we inadvertently omitted a section heading.

B. Summary of Errors in the Regulations Text

On page 32850, we inadvertently omitted regulation text changes to a definition in § 414.1305 and made formatting and paragraph designation errors in § 414.1380.

On page 32851, we made technical errors in § 414.1400(d)(3)(vi)(A).

C. Summary of Errors in Appendices

On page 33162, under Table DD.2 Colorectal Cancer Screening, we inadvertently made a typographical error in the Substantive Change row.

On page 33183, we inadvertently made a typographical error in omitting the asterisk (*) key after “Symbol Key:”

On page 33208 in Table B.2, we inadvertently omitted quality measure Q144: Oncology: Medical and Radiation, Plan of Care for Pain under the Advancing Cancer Care MVP, the Radiation Oncology Clinical Grouping.

On page 33219, we made inadvertent errors in the list of Improvement Activities included in the Coordinating Stroke Care to Promote Prevention and Cultivate Positive Outcomes MVP.

On page 33255, we inadvertently repeated several paragraphs.

III. Waiver of the 60-Day Public Comment Period

Under section 553(b) of the Administrative Procedure Act (the APA) (5 U.S.C. 553(b)), the agency is required to publish a notice of proposed rulemaking in the Federal Register before the provisions of a rule take effect. Similarly, section 1871(b)(1) of the Social Security Act (the Act) requires the Secretary to provide for notice of the proposed rule in the Federal Register and provide a period of not less than 60 days for public comment. Section 553(b)(B) of the APA provides for exceptions from the APA notice and comment requirements; in cases in which these exceptions apply, section 1871(b)(2)(C) of the Act provides exceptions from the notice and 60-day comment period requirements of the Act as well. Section 553(b)(B) of the APA and section 1871(b)(2)(C) of the Act authorize an agency to dispense with normal notice and comment rulemaking procedures for good cause if the agency makes a finding that the notice and comment process is impracticable, unnecessary, or contrary to the public interest, and includes a statement of the finding and the reasons for it in the rule. In our view, this correcting document does not constitute a rulemaking that would be subject to these requirements. The corrections made through this correcting document are intended to resolve inadvertent errors so that the CY 2026 PFS proposed rule accurately reflects the policies proposed therein.

In addition, even if this were a rulemaking to which the notice and comment requirements applied, we find that there is good cause to waive such requirements. The 60-day comment period referenced in section 1871(b)(1) of the Act may be shortened, as provided under section 1871(b)(2)(C) of the Act, when the Secretary finds good cause that a 60-day comment period would be impracticable, unnecessary, or contrary to the public interest and incorporates a statement of the finding and its reasons in the rule issued. For this proposed rule correcting document, we are waiving the 60-day comment period for good cause and allowing a comment period that coincides with the comment period provided for the CY 2026 PFS proposed rule. Undertaking further notice and comment procedures to incorporate the corrections in this document into the CY 2026 PFS proposed rule would be contrary to the public interest because a full 60-day comment period would end on a date that would not allow the agency sufficient time to process the comments and respond to them in a meaningful manner by the November 1, 2025 date for issuing the final rule. If we allowed for a full 60-day comment period, timely filed comments would receive a shorter period of time for consideration by the agency, and the agency would be left with insufficient time to properly respond to comments and appropriately resolve whether any of the proposed policies should be modified in light of comments received. For all of these reasons, we find good cause to waive the 60-day comment period for this proposed rule correcting document, and we are instead providing for a comment period that coincides with the comment period provided for the CY 2026 PFS proposed rule that appeared in the July 16, 2025 Federal Register.

IV. Correction of Errors

In FR Doc. 2025-13271 of July 16, 2025 (90 FR 32352), make the following corrections:

A. Correction of Errors in the Preamble

On page 32352, first column, first full paragraph, line 21, the phrase “Qualified Health Centers update to the” is corrected to read “Qualified Health Centers; update to the”.

2. On page 32353, third column, nineth bulleted paragraph, the phrase “Access to Behavioral Health Services (section II.I.)” is corrected to read “Policies to Improve Care for Chronic Illness and Behavioral Health Needs (section II.I.)”.

3. On page 32386, third column, following the first full paragraph, the text is corrected by adding the following:

“(12) Sleep Study (CPT code 95800)

For CY 2026, an interested party re-nominated CPT code 95800 (Sleep study, unattended, simultaneous recording; heart rate, oxygen saturation, respiratory analysis (e.g., by airflow or peripheral arterial tone, and sleep time). This code was recently nominated two times as potentially misvalued in the CY 2024 PFS proposed rule (88 FR 52283 through 52284) and the CY 2025 PFS proposed rule (89 FR 61618 through 61619).

For the CY 2024 and CY 2025 PFS final rules, we stated that we were unable to properly assess whether CPT code 95800 is potentially misvalued and further stated that we could not identify whether disposable or reusable home sleep apnea testing (HSAT) devices are more commonly used based on the evidence submitted with the original nominations and subsequent comments that CMS received. To confirm whether disposable devices were more commonly used, the nominator commissioned a consulting group to conduct an independent survey of sleep medicine providers, developed with input from the American Academy of Sleep Medicine (AASM), which found that 60 percent of procedures reported with CPT code 95800 used fully disposable HSAT equipment among respondents who reported this service in 2023.

The nominator stated that CPT code 95800 is misvalued because there has been a fundamental shift in clinical practice from reusable equipment to disposable HSAT devices, but the current direct practice expense (PE) inputs still reflect the older reusable technology assumptions. The nominator stated that CMS currently models' payment for CPT code 95800 based on the use of a reusable sleep testing device (the WatchPAT 200) with a consumable component (WatchPAT probe), but the survey data demonstrates that the majority of procedures now use fully disposable devices like the WatchPAT ONE. According to the nominator, this misalignment between current medical practice and the direct PE inputs has resulted in inaccurate direct practice expenses for CPT code 95800 and created access challenges for Medicare beneficiaries, particularly in rural and remote areas, since the payment structure does not accurately reflect the actual costs and technologies used in contemporary sleep study practices. The nominator recommended deleting the current equipment codes for reusable devices and adding a new supply code for the disposable WatchPAT ONE device to ensure that Medicare reimbursement rates align with the “typical procedure” methodology that now involves disposable rather than reusable equipment. For more details, we refer to the CY 2025 PFS final rule (89 FR 97741 through 97743). Also, we refer readers to the submitted nomination, which is posted in the public use files for this proposed rule available on our public website under PFS Federal Regulation Notices at https://www.cms.gov/medicare/payment/fee-schedules/physician/federal-regulation-notices.

While we appreciate the survey, we note that there are several limitations that can influence the survey's generalizability, validity, and reliability. Some key limitations include a small sample of 25 complete responses with a low 12 percent survey engagement rate, and methodological constraints such as the short 17-day survey period.

Given that we only have access to the nominator's summary of their internal data and survey results with a few notable limitations, we propose to maintain the current direct PE supply and equipment inputs for CPT code 95800. We are not proposing to nominate the code as potentially misvalued. We welcome public comments, published studies, other surveys, and data on whether the typical procedure described by CPT code 95800 now involves the use of a disposable HSAT device rather than reusable equipment.”.

4. On page 32503, first column before the first paragraph, the language is corrected by adding the following:

“H. Outpatient Therapy Services and KX Modifier Thresholds

1. Technical Correction (§ 410.62(a))

In the CY 2009 PFS final rule (73 FR 69874 through 69875) we finalized the addition of a new paragraph at § 410.62(c) for the services of speech-language pathologists (SLPs) in private practice (SLPPPs) allowed through the amendments in section 143 of the Medicare Improvement for Patients and Providers Act of 2008 (MIPPA); and, we also finalized a new condition of payment at § 410.62(a)(3)(ii) requiring these SLPPPs to meet the qualifications of SLPs at 42 CFR part 484 that is specified in the basic rule for outpatient speech-language pathology services at § 410.62(a).

During a recent review of our regulations at §§ 410.62, we noticed an error in § 410.62(a). That is, the basic rule at § 410.62(a) does not correctly reflect the policy that for Medicare Part B to pay for outpatient speech-language pathology services, those services are required to be delivered only by SLPs—including the SLPPPs specified at paragraph (a)(3)(ii)—meeting the requirements for an SLP at § 484.115. Instead, § 410.62(a) states that “Except as specified in paragraph (a)(3)(ii) of this section” rather than paragraph (a)(3)(iii) which was paragraph (a)(3)(ii) before being repositioned to paragraph (a)(3)(iii) when the condition of payment was added for the services of SLPPPs. We inadvertently did not update the exception paragraph during CY 2009 PFS rulemaking to reflect the correct policy under which the individual furnishing services incident to the services of physicians, physician assistants (PAs), clinical nurse specialists (CNSs), or nurse practitioner (NPs) does not have to meet the state licensure requirement at § 484.115 (although they are required to meet the other standards and conditions that apply to SLPs). Therefore, we propose to revise § 410.62(a) to reflect the policy related to qualifications for individuals furnishing services incident to the services of physicians, PAs, CNSs, and NPs by correctly referencing paragraph (a)(3)(iii) in place of paragraph (a)(3)(ii). We are also proposing to make a conforming regulatory change at § 410.26(c)(2) to refer readers to § 410.62(a)(3)(iii) instead of § 410.62(a)(3)(ii) for the correct policy related to the qualifications for individuals providing speech-language pathology services furnished incident to the services of physicians, PAs, CNSs, and NPs.

2. KX Modifier Thresholds

The KX modifier thresholds were established through section 50202 of the Bipartisan Budget Act of 2018 (Pub. L. 115-123, February 9, 2018) (BBA) and were formerly referred to as the therapy cap amounts. These per-beneficiary amounts under section 1833(g) of the Act (as amended by section 4541 of the Balanced Budget Act of 1997) (Pub. L. 105-33, August 5, 1997) are updated each year based on the percentage increase in the Medicare Economic Index (MEI). Specifically, these amounts are calculated by updating the previous year's amount by the percentage increase in the MEI for the upcoming calendar year and rounding to the nearest $10.00. Thus, for CY 2026, we propose to increase the CY 2025 KX modifier threshold amount by the most recent forecast of the 2017-based MEI. For CY 2026, the proposed MEI increase is estimated to be 2.7 percent and is based on the expected historical percentage increase of the 2017-based MEI. Multiplying the CY 2025 KX modifier threshold amount of $2,410 by the proposed CY 2026 percentage increase in the MEI of 2.7 percent ($2,410 x 1.027) and rounding to the nearest $10.00 results in a proposed CY 2026 KX modifier threshold amount of $2,480 for physical therapy and speech-language pathology services combined and $2,480 for occupational therapy services. We also propose to update the MEI increase for CY 2026 based on historical data through the second quarter of 2025, and we propose to use such data, if appropriate, to determine the final MEI percentage increase and the CY 2026 KX modifier threshold amounts in the CY 2026 PFS final rule.

Section 1833(g)(7)(B) of the Act describes the targeted medical review (MR) process for services of physical therapy, speech-language pathology, and occupational therapy services. The threshold for targeted MR is $3,000 through CY 2027. Effective beginning with CY 2028, the MR threshold levels will be annually updated by the percentage increase in the MEI, per section 1833(g)(7)(B) of the Act. Consequently, for CY 2026, the MR threshold is $3,000 for physical therapy and speech-language pathology services combined and $3,000 for occupational therapy services. Section 1833(g)(5)(E) of the Act states that CMS shall identify and conduct targeted medical review using factors that may include the following:

• The therapy provider has had a high claims denial percentage for therapy services under this part or is less compliant with applicable requirements under this title.

• The therapy provider has a billing pattern for therapy services under this part that is aberrant compared to peers or otherwise has questionable billing practices for such services, such as billing medically unlikely units of services in a day.

• The therapy provider is newly enrolled under this title or has not previously furnished therapy services under this part.

• The services are furnished to treat a type of medical condition.

• The therapy provider is part of a group that includes another therapy provider identified using the factors described previously in this section.

We track each beneficiary's incurred expenses for therapy services annually and count them towards the KX modifier and MR thresholds by applying the PFS rate for each service less any applicable multiple procedure payment reduction (MPPR) amount for services of CMS-designated “always therapy” services (see the CY 2011 PFS final rule at 75 FR 73236). We also track therapy services furnished by critical access hospitals (CAHs), applying the same PFS-rate accrual process, even though they are not paid for their therapy services under the PFS and may be paid on a cost basis (effective January 1, 2014) (see the CY 2014 PFS final rule at 78 FR 74406 through 74410).

When the beneficiary's incurred expenses for the year for outpatient therapy services exceed one or both of the KX modifier thresholds, therapy suppliers and providers use the KX modifier on claims for subsequent medically necessary services. Using the KX modifier, the therapist and therapy provider attest that the services above the KX modifier thresholds are reasonable and necessary and that documentation of the medical necessity for the services is in the beneficiary's medical record. Claims for outpatient therapy services exceeding the KX modifier thresholds without the KX modifier included are denied.”.

5. On page 32637, second column, first partial paragraph, lines 10 through 12, the phrase “information (see also section III.E.2.a. of this proposed rule regarding transfer of labeler codes); and” is corrected to read “information; and”.

6. On page 32671, first column, first footnote paragraph (footnote 323), line 1 through 5, the sentence “Refer to Executive Order 14192 “Unleashing Prosperity Through Deregulation” https://www.federalregister.gov/documents/2025/02/06/2025-02345/unleashing-prosperity-through-deregulation” is corrected to read “See discussion on use of our authority under section 1899(i)(3) of the Act, at 87 FR 69950.”.

7. On page 32717,

a. Second column, last paragraph, line 3, the phrase “42 MIPS quality measures.” is corrected to read “32 MIPS quality measures.”.

b. Third column, third bulleted paragraph, line 1, the phrase “42 MIPS” is corrected to read “32 MIPS”.

8. On page 32770, lower two-thirds of the page, second column, first partial paragraph, last line, the sentence “In the 414.1425(d).” is corrected by removing the sentence.

9. On page 32771, first column, last partial paragraph, lines 1 and 2, the phrase “a conforming revision at § 414.1425(c)(3)(i)” is corrected to read “conforming revisions at § 414.1425(c)(3)(i) and (4)”.

10. On page 32776, third column, third full paragraph, line 1, the reference “Table 73” is corrected to read “Table 74”.

11. On page 32777, upper half of the page, first column, first paragraph, lines 1 through 14, the sentences “Pending our finalization of the following proposed provisions, the changes will submitted to OMB for review and approval under control number 0938-0921 (CMS-10110) using the standard PRA process. The process includes the publication of 60- and 30-day Federal Register notices that will provide the public with additional opportunities to review and comment on the changes. The following proposed changes will be submitted to OMB for review under control number 0938-0921 (CMS-10110).” are corrected to read “The following proposed changes will be submitted to OMB for review under control number 0938-0921 (CMS-10110).”.

12. On page 32778, lower third of the page, first column, last paragraph, line 8, the reference “section VII.E.” is corrected to read “section VII.”.

13. On page 32779, third column, partial paragraph, line 44, the phrase “component” is corrected to read “component”.

14. On page 32781, middle of the page, after the table notes for TABLE 81 and before the table titled “TABLE 82: ANNUAL RESPONSES BEGINNING WITH THE CY 2027 PERFORMANCE PERIOD/2029 MIPS PAYMENT YEAR UNDER OMB CONTROL NUMBER 0938-1222 (CMS-10450)” the language is corrected by adding the following:

“For the Consumer Assessment of Healthcare Providers and Systems (CAHPS) for MIPS Survey ICRs under OMB control number 0938-1222 (CMS-10450) (see section V.B.5.b.(1) of this proposed rule), we estimate that the policy proposals in this proposed rule would result in an annual change of 0 responses, +10 hours, and +$1,077 (see total of Total Change in Tables 82, 83, and 84, respectively), beginning with the CY 2027 performance period/2029 MIPS payment year.”.

15. On page 32793, lower half of the page, in the table titled “TABLE 87: PROPOSED ANNUAL REQUIREMENTS AND BURDEN ESTIMATES”, the sixth and seventh rows are corrected to read as follows:

Table 87—Proposed Annual Requirements and Burden Estimates
Section(s) under title 42 of the CFR | OMB control number (CMS ID No.) | No. respondents | Total annual responses | Time per response (hours) | Total annual time (hours) | Labor cost ($/hr) | Total cost ($)
Medicare Prescription Drug Inflation Rebate Program under Sections 11101 and 11102 of the Inflation Reduction Act | 0938-TBD (CMS-10930) | 6,500 Covered Entities or TPAs | 26,000 Covered Entities or TPAs | 8 Covered Entities or TPAs | 208,000 Covered Entities or TPAs | Varies | 23,195,120 Covered Entities or TPAs
Total | n/a | 64,683 | 91,667 | varies | 197,909 | varies | 22,698,711

16. On page 32799,

a. Second column, last full paragraph, line 1, the reference “section III.H.” is corrected to read “section III.G.”.

b. Third column, third full paragraph, line 4, the phrase “ased on our” is corrected to read “Based on our”.

17. On page 32801,

a. Top half of the page in the table titled “TABLE 89: CALCULATION OF THE CY 2026 PFS NON-QUALIFYING APM CONVERSION FACTOR, THE CY 2026 RVU BUDGET NEUTRALITY ADJUSTMENT”, third row, second column the entry “0.55 percent (1.0045)” is corrected to read “0.55 percent (1.0055)”.

b. Middle of the page, in the table titled “TABLE 90: CALCULATION OF THE CY 2026 ANESTHESIA QUALIFYING APM CONVERSION FACTOR, THE CY 2026 RVU BUDGET NEUTRALITY ADJUSTMENT third row, second column the entry “0.55 percent (1.0045)” is corrected to read “0.55 percent (1.0055)”.

c. Lower one-half of the page, in the table titled “TABLE 91: CALCULATION OF THE CY 2026 ANESTHESIA NON-QUALIFYING APM CONVERSION FACTOR, THE CY 2026 RVU BUDGET NEUTRALITY ADJUSTMENT” third row, second column the entry “0.55 percent (1.0045)” is corrected to read “0.55 percent (1.0055)”.

18. On page 32818, first column, last partial paragraph, line 1, the reference “section III.H.” is corrected to read “section III.G.”.

19. On page 32834, second column, first full paragraph, line 1, the phrase “In our MIPs eligible clinician” is corrected to read as follows:

“f. Assumptions & Limitations

In our MIPS eligible clinician”.

B. Correction of Errors in the Regulations Text

20. On page 32850,

a. First column,

(1) Fifth full paragraph (amendatory instruction 19(a)), last line the “beneficiary; and” is corrected to read “beneficiary;”

(2) After the fifth full paragraph and before the sixth full paragraph, the amendatory instructions are corrected by adding the following:

“b. In the definition of ‘high priority measure’, the phrase ‘care coordination, opioid, or health equity-related quality measure.’ is removed and added in its place the phrase ‘care coordination or opioid-related quality measure.’ ”

(3) Sixth full paragraph (amendatory instruction 19(b)), line 1, the phrase “b. Revising the definitions of” is corrected to read “c. Revising the definitions of”.

c. Second column, 15th full paragraph (§ 414.1380(b)(1)(i)) through the third column first full paragraph (§ 414.1380(b)(1)(i)(C)), beginning with the phrase “(i) Measure achievement points. For” and ending with the phrase “achievement points.” is corrected to read as follows:

“(i) Measure achievement points. For the CY 2017 through 2022 performance periods/2019 through 2024 MIPS payment years, MIPS eligible clinicians receive between 3 and 10 measure achievement points (including partial points) for each measure required under § 414.1335 on which data is submitted in accordance with § 414.1325 that has a benchmark at paragraph (b)(1)(ii) of this section, meets the case minimum requirement at paragraph (b)(1)(iii) of this section, and meets the data completeness requirement at § 414.1340 and for each administrative claims-based measure that has a benchmark at paragraph (b)(1)(ii) of this section and meets the case minimum requirement at paragraph (b)(1)(iii) of this section. Except as provided under paragraph (b)(1)(i)(C) of this section, beginning with the CY 2023 performance period/2025 MIPS payment year, MIPS eligible clinicians receive between 1 and 10 measure achievement points (including partial points) for each such measure. Except as specified otherwise under paragraph (b)(1)(ii) of this section, the number of measure achievement points received for each such measure is determined based on the applicable benchmark decile category and the percentile distribution. MIPS eligible clinicians receive zero measure achievement points for each measure required under § 414.1335 on which no data is submitted in accordance with § 414.1325. MIPS eligible clinicians that submit data in accordance with § 414.1325 on a greater number of measures than required under § 414.1335 are scored only on the required measures with the greatest number of measure achievement points. Beginning with the CY 2019 performance period/2021 MIPS payment year, MIPS eligible clinicians that submit data in accordance with § 414.1325 on a single measure via multiple collection types are scored only on the data submission with the greatest number of measure achievement points.”.

d. Third column (§ 414.1380(b)(1),

(1) Third full paragraph (§ 414.1380(b)(1)(ii)(D)), line 1, the phrase “(D) Beginning with the CY 2023” is corrected to read “(D)(1) Beginning with the CY 2023”.

(2) Fourth full paragraph (§ 414.1380(b)(1)(ii)(E)), line 1, the phrase “(E) Beginning with the CY 2025”is corrected to read “(2) Beginning with the CY 2025”.

(3) Fifth full paragraph, (§ 414.1380(b)(1)(ii)(E)(1)), line 1, the phrase “(1) CMS awards achievement points “is corrected to read “(i) CMS awards achievement points”.

(4) Sixth full paragraph, (§ 414.1380(b)(1)(ii)(E)(2)), line 1, the phrase “(2) CMS awards achievement points “is corrected to read “(ii) CMS awards achievement points”.

21. On page 32851, third column, 17th full paragraph (§ 414.1400(d)(3)(vi)(A)), the phrase “employment of a” is corrected to read “employ a”.

C. Correction of Errors in the Appendices

22. On page 33162, Table DD.2 Colorectal Cancer Screening, the Substantive Change row is corrected to read: “Reviewed—to meet the quality action, there must be documentation in the medical record that the clinician reviewed the colonoscopy report and discussed the findings with the patient. The colonoscopy report may also be provided by the patient for the clinician's review/discussion during the visit and should be documented in the medical record.”.

23. On page 33183, third column, last paragraph, the phrase “Symbol Key:” is corrected to read as follows:

“Symbol Key:

Single asterisk (*): existing measures and improvement activities with proposed revisions.

Double asterisk (**): measures and improvement activities only available when included in an MVP.

Single exclamation point (!): improvement activities with an advancing health and wellness component.” .

24. On page 33208, in table B.2 titled “Advancing Cancer Care MVP, Radiation Oncology Clinical Groupings”, last row (Radiation Oncology), the entry is corrected to read as follows:

Table B.2—Advancing Cancer Care MVP Clinical Groupings
Advancing Cancer Care MVP: Clinical grouping | Advancing Cancer Care MVP: Quality: Measure | Advancing Cancer Care MVP: Quality: Outcome | Advancing Cancer Care MVP: Quality: High priority | Advancing Cancer Care MVP: Cost
Radiation Oncology | Q102: Prostate Cancer: Avoidance of Overuse of Bone Scan for Staging Low Risk Prostate Cancer Patients (Collection Type: eCQM, MIPS CQM) | No | Yes | COST_PC_1: Prostate Cancer
| (*) Q143: Oncology: Medical and Radiation—Pain Intensity Quantified (Collection Type: eCQM, MIPS CQM) | No | Yes |
| Q144: Oncology: Medical and Radiation—Plan of Care for Pain (Collection Type: MIPS CQM) | No | Yes | (*) TPCC_1: Total Per Capita Cost

25. On page 33219, bottom of page, the Coordinating Stroke Care to Promote Prevention and Cultivate Positive Outcomes Improvement Activities is corrected to read as follows:

• (*)(!)IA_AHW_X: Chronic Care Preventive Care Management for Empaneled Patients

• IA_BE_1: Use of certified EHR to capture patient reported outcomes

• IA_BE_4: Engagement of Patients through Implementation of New Patient Portal

• IA_BE_6: Regularly Assess Patient Experience of Care and Follow Up on Findings

• IA_BE_24: Financial Navigation Program

• IA_BMH_15: Behavioral/Mental Health and Substance Use Screening and Referral for Older Adults

• IA_CC_13: Practice improvements to align with OpenNotes principles

• IA_CC_17: Patient Navigator Program

• IA_MVP: Practice-Wide Quality Improvement in MIPS Value Pathways

• IA_PM_15: Implementation of episodic care management practice improvements

26. On page 33255, first through third columns, beginning with the phrase “Quality Measures” and ending with the phrase “component.” is corrected by removing the language.

Cortney L. McCormick,
Executive Secretary to the Department, Department of Health and Human Services.

[FR Doc. 2025-15492 Filed 8-13-25; 8:45 am]

BILLING CODE 4120-01-P